FEDERAL ELECTION COMMISSION

Sunshine Act Meeting

AGENCY: Federal Election Commission.

Date & Time: Tuesday, March 12, 2002 at 10:00 A.M.

Place: 999 E. Street, NW., Washington, DC.

Status: This Meeting Will Be Closed to the Public.

Items To Be Discussed

Compliance matters pursuant to 2 U.S.C. 437g.

Audits conducted pursuant to 2 U.S.C. 437g; 438(b), and Title 26, U.S.C.

Matters concerning participation in civil actions or proceedings or arbitration.

Internal personnel rules and procedures or matters affecting a particular employee.

Date & Time: Thursday, March 14, 2002 at 10:00 A.M.

Place: 999 E. Street, NW., Washington, DC (Ninth Floor).

Status: This Meeting Will Be Open to the Public.

Items To Be Discussed

Correction and Approval of Minutes.

Final Rules and explanation and Justification for Independent Expenditure Reporting.

Person To Contact for Information: Mr. Ron Harris, Press Officer. Telephone: (202) 694-1220.

Mary W. Dove,
Secretary of the Commission.

[FR Doc. 02-5662 Filed 3-5-02; 2:54 pm]

BILLING CODE 6715-01-M